DEPARTMENT OF HEALTH AND HUMAN SERVICES

Centers for Disease Control and Prevention

Disease, Disability, and Injury Prevention and Control Special Emphasis Panel (SEP): Technical Support for Birth Defects and Developmental Disabilities Prevention Education Efforts, Contract Solicitation Number (CSN) 2006-N-08835

In accordance with Section 10(a)(2) of the Federal Advisory Committee Act (Pub. L. 92-463), the Centers for Disease Control and Prevention (CDC) announces the following meeting of the aforementioned SEP:

Time and Date: 12 p.m.-3 p.m., April 30, 2007 (Closed).

Place: Teleconference, Centers for Disease Control and Prevention, 1600 Clifton Road, NE., Atlanta, GA 30333.

Status: The meeting will be closed to the public in accordance with provisions set forth in Section 552b(c)(4) and (6), Title 5 U.S.C., and the Determination of the Director, Management Analysis and Services Office, CDC, pursuant to Public Law 92-463.

Matters to be Discussed: The meeting will include the review, discussion, and evaluation of applications received in response to CSN 2006-N-08835, “Technical Support for Birth Defects and Developmental Disabilities Prevention Education Efforts.”

For Further Information Contact: Christine Morrison, Ph.D., Scientific Review Administrator, Centers for Disease Control and Prevention, 1600 Clifton Road NE., Mailstop D72, Atlanta, GA 30333, Telephone 404.639.3098. The Director, Management Analysis and Services Office, has been delegated the authority to sign Federal Register notices pertaining to announcements of meetings and other committee management activities, for both CDC and the Agency for Toxic Substances and Disease Registry.

Dated: March 28, 2007.
Elaine L. Baker,
Acting Director, Management Analysis and Services Office, Centers for Disease Control and Prevention.

[FR Doc. E7-6270 Filed 4-3-07; 8:45 am]

BILLING CODE 4163-18-P